DEPARTMENT OF HEALTH AND HUMAN SERVICES

National Institutes of Health

National Institute of Mental Health Amended Notice of Meeting

Notice is hereby given of a change in the meeting of the National Institute of Mental Health Special Emphasis Panel, November 2, 2016, 08:30 a.m. to November 2, 2016, 05:00 p.m., Washington Marriott Georgetown, 1221 22nd Street NW., Washington, DC 20037 which was published in the Federal Register on October 13, 2016, 81 FR 70693.

The meeting notice is amended to change the location to the Marriott Wardman Park Washington DC Hotel, 2660 Woodley Road NW., Washington, DC 2008. The meeting is closed to the public.

Dated: October 28, 2016.
Carolyn A. Baum,
Program Analyst, Office of Federal Advisory Committee Policy.

[FR Doc. 2016-26625 Filed 11-3-16; 8:45 am]

BILLING CODE 4140-01-P